DEPARTMENT OF JUSTICE

[OMB Number 1121-0152]

Agency Information Collection Activities; Proposed eCollection eComments Requested; Proposed Collection: Reinstatement With Changes of Previously Approved Collection for Which Approval Has Expired; Survey: Survey of Prison Inmates (Formerly Named the Survey of Inmates in State and Federal Correctional Facilities)

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until April 27, 2015.

FOR FURTHER INFORMATION CONTACT: If you have additional comments especially on the estimated public burden or associated response time, suggestions, or need a copy of the proposed information collection instrument with instructions or additional information, please contact Lauren Glaze, Statistician, Bureau of Justice Statistics, 810 Seventh Street NW., Washington, DC 20531 (email: Lauren.Glaze@usdoj.gov; telephone: 202-305-9628).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: Reinstatement, with change, of a previously approved collection for which approval has expired.

(2) The Title of the Form/Collection: Survey of Prison Inmates, 2015-2016 (formerly named the Survey of Inmates in State and Federal Facilities).

(3) The agency form number, if any, and the applicable component of the Department sponsoring the collection: The form number for the questionnaire is NPS-25. The applicable component within the Department of Justice is the Bureau of Justice Statistics (Corrections Unit), in the Office of Justice Programs.

(4) Affected public who will be asked or required to respond, as well as a brief abstract: Primary: Individuals. Others: State government and Federal government. Affected public are prison inmates age 15 or older held in adult state or federal correctional facilities and the adult state and federal correctional facilities. The purposes of this omnibus survey are to generate reliable, nationally-representative estimates of the characteristics of prisoners in the United States, track changes in the characteristics of prisoners over time, conduct studies of prisoners on special topics, and identify policy-relevant changes in the prison population. The survey will also be used to produce subnational estimates of prisoners within jurisdictions that have the largest prison populations (i.e. 100,000 or more) in the nation. The 2015-2016 SPI survey builds upon prior surveys and is organized around the concepts of harm, risk, and reentry. Specifically, the harms that prisoners have perpetrated on society as measured by the severity of the offense, the incident characteristics of the offense and criminal history; the risk they pose for recidivism as measured by harm elements and additional risk factors such as ties to the community and mainstream institutions of social integration, such as pre-prison employment within the labor market; their challenges and expectations for reentry back into the community as measured by the SPI through the extent of substance abuse, mental health, and medical problems of prisoners, treatment they may have received for problems, programs in which they participated while in prison, and their motivation (i.e., intrinsic or extrinsic) to participate in programs. The data will be collected through face-to-face interviews with the inmates using Computer-Assisted Personal Interviewing (CAPI) technology. BJS has used the data from previous iterations of SPI to publish a variety of statistical products that profile prisoner characteristics over time and address important substantive and policy-relevant issues related to crime and corrections. The data are also used by a variety of stakeholders for these same purposes, including the U.S. Congress, Executive Office of the President, practitioners, researchers, students, the media, and others interested in criminal justice statistics. No other collection series provides these data on the variety of topics that SPI covers.

(5) An estimate of the total number of respondents and the amount of time estimated for an average respondent to respond: The 2015-2016 SPI consists of a pretest and a national study. The pretest will include 2 state correctional facilities providing a roster of inmates at 0.5 hours per facility for a total of 1 hour; prison staff escorting 60 inmates to/from interview sites at 0.5 hours per inmate for a total of 30 hours; and 60 inmates responding to the questionnaire at 1.00 hour per interview for a total of 60 hours. The pretest will result in a total expected burden of approximately 91 hours. For the SPI national study, a maximum of 416 state and federal correctional facilities will provide a roster of inmates at 0.5 hours per facility for a total of 208 hours; prison staff will escort a maximum of 33,200 inmates to/from interview sites at 0.5 hours per inmate for a total of 16,600 hours; and a maximum of 33,200 inmates will respond to the questionnaire at 1.00 hours per interview for a total of 33,200 hours. The SPI national study will result in an expected maximum burden of approximately 50,008 hours.

(6) An estimate of the total public burden (in hours) associated with the collection: The estimated total public burden is 50,099 annual hours.

If additional information is required contact: Jerri Murray, Department Clearance Officer, United States Department of Justice, Justice Management Division, Policy and Planning Staff, Two Constitution Square, 145 N Street NE., 3E.405B, Washington, DC 20530.

Dated: February 19, 2015.
Jerri Murray,
Department Clearance Officer for PRA, U.S. Department of Justice.

[FR Doc. 2015-03708 Filed 2-23-15; 8:45 am]

BILLING CODE 4410-18-P